DEPARTMENT OF HEALTH AND HUMAN SERVICES

National Institutes of Health

National Institute on Alcohol Abuse and Alcoholism; Amended Notice of Meeting

Notice is hereby given of a change in the meeting of the Biomedical Research Study Section, March 7, 2023, 8:30 a.m. to March 7, 2023, 5:00 p.m., National Institutes of Health, National Institute on Alcohol Abuse and Alcoholism, 6700B Rockledge Drive, Bethesda, MD 20892 which was published in the Federal Register on December 19, 2022, FR Doc 2022-27418, 87 FR 77623.

This notice is being amended to change the Contact Person to Anna Ghambaryan, M.D., Ph.D., Scientific Review Officer, Extramural Project Review Branch, Office of Extramural Activities, National Institute on Alcohol Abuse and Alcoholism, 6700B Rockledge Drive, Room 2120, MSC 6902, Bethesda, MD 20892, (301) 443-4032, anna.ghambaryan@nih.gov. The meeting is closed to the public.

Dated: January 19, 2023.
Melanie J. Pantoja,
Program Analyst, Office of Federal Advisory Committee Policy.

[FR Doc. 2023-01305 Filed 1-23-23; 8:45 am]

BILLING CODE 4140-01-P